DEPARTMENT OF TRANSPORTATION

[Docket No.: DOT-OST-2021-0160]

Transportation Research and Development Strategic Plan; Request for Information; Extension of Comment Period

AGENCY: Office of the Assistant Secretary for Research and Technology (OST-R), U.S. Department of Transportation (USDOT).

ACTION: Request for Information (RFI); extension of comment period.

SUMMARY: On December 30, 2021, the Office of the Assistant Secretary for Research and Technology (OST-R) of the U.S. Department of Transportation (USDOT) published in the Federal Register a request for information seeking input from the public to inform the development of USDOT's Research, Development, and Technology (RD&T) Strategic Plan for fiscal years (FY) 2022-2026. That request established a 30-day comment period closing on January 31, 2022. USDOT is extending the public comment period until March 4, 2022.

DATES: The comment period for the notice published on December 30, 2021 (86 FR 74429) is extended. The due date for submitting comments is March 4, 2022.

ADDRESSES: Written comments may be submitted by email or U.S. mail, identified by Docket Number DOT-OST-2021-0160. Respondents are encouraged to submit comments electronically to ensure timely receipt. Please include your name, title, organization, postal address, telephone number, and email address.

• Electronic Submission: Go to http://www.regulations.gov. Search by using Docket Number DOT-OST-2021-0160. Follow the instructions for sending comments.

• Email: rdtplan@dot.gov. Include the docket number in the subject line of the message. Please include the full body of your comments in the text of the electronic message and as an attachment.

• Mail: Docket Management Facility; U.S. Department of Transportation, 1200 New Jersey Avenue SE, Room PL-401, Washington, DC 20590-0001.

• Instructions: All submissions must include the agency name and docket numbers.

FOR FURTHER INFORMATION CONTACT: Jordan Katz, Community Planner, U.S. DOT Volpe Center, Telephone (617) 494-3783 or Email rdtplan@dot.gov.

SUPPLEMENTARY INFORMATION: USDOT published a request for information in the Federal Register on December 30, 2021 (86 FR 74429) seeking public input to inform the development of USDOT's RD&T Strategic Plan for FY 2022-2026. The public comment period is extended to March 4, 2022. All other information in the notice from December 30, 2021 remains the same.

Issued on January 27, 2022.
Jordan Wainer Katz,
Community Planner.

[FR Doc. 2022-02011 Filed 1-31-22; 8:45 am]

BILLING CODE 4910-9X-P